DEPARTMENT OF JUSTICE

Notice of Lodging of Proposed Consent Decree Under the Comprehensive Environmental Response Compensation and Liability Act

On July 31, 2014, the Department of Justice lodged a proposed Consent Decree with the United States District Court for the Eastern District of Texas in the lawsuit entitled United States and State of Texas v. OXY USA Inc. and CANADIANOXY OFFSHORE PRODUCTION CO., Civil Action No. 4:14-cv-00491.

The plaintiffs seek compensation for damage to natural resources in and about the former Empire Oil Refinery, located at 101 County Road 401, Gainesville, Cook County, Texas. The plaintiffs allege under federal or state law that these two defendants are liable for the injury to natural resources resulting from releases of hazardous substances or pollutants at that site. Under the proposed Consent Decree that embodies the settlement proposed here, the two defendants will complete restoration work (including a conservation easement), as explained in a damage assessment and restoration plan that was completed for this site by the federal and state natural resource trustees. The two defendants also will pay past assessment costs and also must compensate plaintiffs for certain future costs. In return, the defendants receive covenants not to sue for natural resource damages resulting from releases from the site, subject to reservations specified in the proposed Decree.

The publication of this notice opens a period for public comment on the proposed Decree. Comments should be addressed to the Assistant Attorney General, Environment and Natural Resources Division, and should refer to United States and State of Texas v. OXY USA Inc. and CANADIANOXY OFFSHORE PRODUCTION CO., D.J. Ref. No. 90-11-2-07981. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy upon written request and payment of reproduction costs. Please mail your request and payment to: Consent Decree Library, U.S. DOJ-ENRD, P.O. Box 7611, Washington, DC 20044-7611.

Please enclose a check or money order for $33.75 (25 cents per page reproduction cost) payable to the United States Treasury. For a paper copy without the attachments, the cost is $12.50.

Maureen Katz,
Assistant Section Chief, Environmental Enforcement Section, Environment and Natural Resources Division.

[FR Doc. 2014-18624 Filed 8-6-14; 8:45 am]

BILLING CODE 4410-15-P